DEPARTMENT OF HEALTH AND HUMAN SERVICES

National Institutes of Health

Center for Scientific Review; Amended Notice of Meeting

Notice is hereby given of a change in the meeting of the Molecular Oncogenesis Study Section, October 17, 2013, 08:00 a.m. to October 18, 2013, 06:00 p.m., Embassy Suites Alexandria, 1900 Diagonal Road, Alexandria, VA which was published in the Federal Register on September 23, 2013, 78 FR 184 Pgs. 58324-58325.

The meeting will be held at the Embassy Suites, 1900 Diagonal Rd., Alexandria, VA 22314. The meeting will start on January 8, 2014 at 8:00 a.m. and end January 8, 2014 at 7:00 p.m. The meeting is closed to the public.

Dated: October 29, 2013.
Michelle Trout,
Program Analyst, Office of Federal Advisory Committee Policy.

[FR Doc. 2013-26159 Filed 11-1-13; 8:45 am]

BILLING CODE 4140-01-P